DEPARTMENT OF JUSTICE

Antitrust Division

Notice Pursuant to the National Cooperative Research and Production Act of 1993—the TRAAMS Venture Team

Notice is hereby given that, on May 19, 2000, pursuant to section 6(a) of the National Cooperative Research and Production Act of 1993, 15 U.S.C. 4301 et seq. (“the Act”), the TRAAMS Venture Team (the “TRAAMS Team”) has filed notifications simultaneously with the Attorney General and the Federal Trade Commission disclosing changes in its membership status. The notifications were filed for the purpose of extending the Act's provisions limiting the recovery of antitrust plaintiffs to actual damages under specified circumstances. Specifically, Eastman Kodak Company, Rochester, NY; and Honeywell, Minneapolis, MN have been added as parties to this venture. In addition, Motorola Corporation, Tempe, AZ; Polaroid Corporation, Cambridge, MA; Terabank Systems, Inc., Santa Clara, CA; and Xerox Corporation, El Segundo, CA have been dropped as parties to the venture.

No other changes have been made in either the membership or planned activity of the group research project.

On May 13, 1996, the TRAAMS Venture Team filed its original notification pursuant to section 6(a) of the Act. The Department of Justice published a notice in the Federal Register pursuant to section 6(b) of the Act on June 12, 1996 (61 FR 29770).

Constance K. Robinson,
Director of Operations, Antitrust Division.

[FR Doc. 01-5486 Filed 3-6-01; 8:45 am]

BILLING CODE 4410-11-M